ENVIRONMENTAL PROTECTION AGENCY REGION 8

[FRL-9919-11-Region-8]

40 CFR Part 503

Propose and Modify NPDES General Permits for Facilities That Generate, Treat, and/or Use/Dispose of Sewage Sludge by Land Application, Landfill and Surface Disposal in the EPA Region 8

AGENCY: The Environmental Protection Agency.

ACTION: Notice of proposed and final modification of the expiration date of the eleven (11) NPDES general permits for Sewage Sludge.

SUMMARY: The Environmental Protection Agency (EPA) is giving notice of modification of the expiration date of the National Pollutant Discharge Elimination System (NPDES) general permits for facilities or operations that generate, treat, and/or use/dispose of sewage sludge by means of land application, landfill and surface disposal in the states of Colorado, Montana, North Dakota, and Wyoming and in Indian country in the states of Colorado, Montana, North Dakota, South Dakota, Wyoming and Utah (except for the Goshute Indian Reservation and the Navajo Indian Reservation) from May 12, 2018, to January 15, 2015. The EPA will regulate sewage sludge (biosolids) through the direct enforceability provision of the regulation.

DATES: This comment period closes on December 15, 2014. Comments may be directed to: Bob Brobst (8P-W-WW), EPA Region 8, 1595 Wynkoop Street, Denver, Colorado 80202-1129. All comments received prior to the end of the comment period will be considered in the formulation of the final permit decision.

After considering these comments, the EPA will issue the final permit decision together with written responses to any significant comments, in accordance with 40 CFR 124.15. If no comments are received, the modification of the 11 permits will be effective immediately upon issuance of the final permit decision.

ADDRESSES: The administrative record is available by appointment for review and copying at the EPA Region 8 offices during the hours of 8:00 a.m. to 4:00 p.m., Monday through Friday, Federal holidays excluded.

To make an appointment to look at or copy the documents call Bob Brobst at (303) 312-6129. The Region 8 offices are located at 1595 Wynkoop Street, Denver, Colorado 80202-1129. A reasonable fee may be charged for copying.

FOR FURTHER INFORMATION CONTACT: Additional information concerning the final permits may be obtained from Bob Brobst, EPA Region 8, Wastewater Unit (8P-W-WW), 1595 Wynkoop Street, Denver, Colorado 80202-1129, telephone (303) 312-6129 or email at brobst.bob@epa.gov.

The final general permits, the fact sheet and additional information may be downloaded from the EPA Region 8 Web page at http://www2.epa.gov/region8/biosolids. Please allow one week after date of this publication for items to be uploaded to the Web page.

SUPPLEMENTARY INFORMATION: The EPA proposes to change the expiration date from May 12, 2018, to January 15, 2015. No other changes will occur in the general permits. The Federal Sewage Sludge Regulations gives the permitting authority, in this case the EPA Region 8, the choice of either issuing a permit or relying on direct enforceability of the regulation.

Direct enforceability means that no person shall use or dispose of sewage sludge through any practice for which requirements are established in the Federal Sewage Sludge Regulation, except in accordance with such requirements.

The EPA Region 8 has decided, for administrative reasons, to regulate sewage sludge (biosolids) through the direct enforceability provision of the regulation. In accordance with 40 CFR 503.3, the permitting authority, in this case the EPA Region 8, may either issue a permit or rely on direct enforceability of the 40 CFR 503. The EPA Region 8 has elected to administer the program under the direct enforceability provision.

The Federal Sewage Sludge Regulations referred to above in the summary section are located at 40 CFR 503 specifically at 40 CFR 503.3. (See http://www.ecfr.gov/) The NPDES permit numbers and the areas covered by this modification of the eleven (11) general permits are listed below.

State | Permit No. | Area covered by each general permit
Colorado | COG650000 | State of Colorado, except for Federal Facilities and Indian country.
| COG651000 | Indian country within the State of Colorado and the portions of the Ute Mountain Indian Reservation located in New Mexico and in Utah.
| COG652000 | Federal Facilities in the State of Colorado, except those located in Indian country, which are covered under permit COG51000.
Montana | MTG650000 | State of Montana, except for Indian country.
| MTG651000 | Indian country in the State of Montana.
North Dakota | NDG650000 | State of North Dakota, except for Indian country.
| NDG651000 | Indian country within the State of North Dakota, except for Indian country located within the former boundaries of the Lake Traverse Indian Reservation, which are covered under permit SDG651000, and that portion of the Standing Rock Indian Reservation located in South Dakota.
South Dakota | SDG651000 | Indian country within the State of South Dakota, except for the Standing Rock Indian Reservation, which is covered under permit NDG651000, and that portion of the Pine Ridge Indian Reservation located in Nebraska and Indian country located in North Dakota within the former boundaries of the Lake Traverse Indian Reservation.
Utah | UTG651000 | Indian country within the State of Utah, except for the Goshute Indian Reservation, Navajo Indian Reservation and Ute Mountain Indian Reservation, which are covered under permit COG651000.
Wyoming | WYG650000 | State of Wyoming, except for Indian country.
| WYG651000 | Indian country within the State of Wyoming.

Other Legal Requirements

Section 401(a)(1) Certification: Since this modification does not involve discharges to waters of the United States, certification under § 401(a)(1) of the Clean Water Act is not necessary.

Economic Impact (Executive Order 12866): The EPA has determined that the modification of these general permits is not a “significant regulatory action” under the terms of Executive Order 12866 (58 FR 51735, October 4, 1993).

Paperwork Reduction Act: The information collection requirements for this modification will not differ in the proposed permits.

Regulatory Flexibility Act (RFA), 5 U.S.C. 601 et seq., as amended by the Small Business Regulatory Enforcement Fairness Act (SBREFA): The RFA requires that the EPA prepare a regulatory flexibility analysis for rules subject to the requirements of 5 U.S.C. 553(b). The modification of the permits proposed today is not a “rule” subject to the requirements of 5 U.S.C. 553(b) and is therefore not subject to the RFA.

Unfunded Mandates Reform Act: The modification of the permits proposed today is not a “rule” subject to the RFA and is therefore not subject to the requirements of UMRA.

Authority: 33 U.S.C. 1251 et seq.

Dated: October 29, 2014.
Callie A. Videtich,
Acting Assistant Regional Administrator, Office of Partnerships and Regulatory Assistance, Region 8.

[FR Doc. 2014-26898 Filed 11-12-14; 8:45 am]

BILLING CODE 6560-50-P